DEPARTMENT OF COMMERCE

Patent and Trademark Office

Privacy Act of 1974; System of Records

AGENCY: United States Patent and Trademark Office, Commerce.

ACTION: Notice of proposed new Privacy Act system of records.

SUMMARY: In accordance with the requirements of the Privacy Act of 1974, as amended, the United States Patent and Trademark Office (USPTO) gives notice of a proposed new system of records entitled “COMMERCE/PAT-TM-18 USPTO Identification and Security Access Control Systems.” We invite the public to comment on the system announced in this publication.

DATES: Written comments must be received no later than January 13, 2005. The proposed system of records will be effective on January 13, 2005, unless the USPTO receives comments that would result in a contrary determination.

ADDRESSES: You may submit written comments by any of the following methods:

• E-mail: Calib.Garland@uspto.gov.

• Fax: (703) 746-8050, marked to the attention of J.R. Garland.

• Mail: J.R. Garland, Director, Security Office, United States Patent and Trademark Office, P.O. Box 1450, Alexandria, VA 22313-1450.

All comments received will be available for public inspection at the Public Search Facilities, Madison East—1st Floor, 600 Dulany Street, Alexandria, VA 22314.

FOR FURTHER INFORMATION CONTACT: J.R. Garland, Director, Security Office, USPTO, (703) 306-9000.

SUPPLEMENTARY INFORMATION: The United States Patent and Trademark Office (USPTO) is giving notice of a new system of records that is subject to the Privacy Act of 1974. The proposed system of records will maintain information on all employees and contractors working for the USPTO for the purpose of providing additional physical security for agency assets. New identification badges will be issued to employees and contractors containing the person's photograph, name, agency name, and identification of active employee or contractor status. Related access controls will be assigned as appropriate.

The USPTO plans to implement a new Access Control System for USPTO facilities, including the main offices at the Carlyle campus in Alexandria, VA. The Access Control System will use new USPTO identification badges to control access to physical assets.

The proposed new system of records, “COMMERCE/PAT-TM-18 USPTO Identification and Security Access Control Systems,” is published in its entirety below.

COMMERCE/PAT-TM-18

System name:

USPTO Identification and Security Access Control Systems.

Security classification:

Unclassified.

System location:

Office of Administrative Services, Security Office, United States Patent and Trademark Office, 600 Dulany Street, Alexandria, VA 22314.

Categories of individuals covered by the system:

USPTO employees, contractors, and other individuals requiring access to USPTO facilities or receiving government property.

Categories of records in the system:

Individual's photograph, registers, and logs reflecting sequential numbering of security/access badges. Records may include the individual's name, organization, work telephone number, date of birth, identification number, photographic image, and records of access to secured facilities.

Authority for maintenance of the system:

5 U.S.C. 301; 35 U.S.C. 2; and E.O. 9397.

Purpose(s):

To improve security for USPTO physical assets; to maintain records concerning the security/access badges issued; to restrict entry to installations and activities; to ensure positive identification of personnel authorized to access restricted areas; and to maintain accountability for issuance and disposition of security/access badges and similar physical access tools.

Routine uses of records maintained in the system, including categories of users and the purposes of such uses:

See Prefatory Statement of General Routine Uses Nos. 1-13, as found at 46 FR 63501-63502 (December 31, 1981).

The USPTO will use the records to issue official U.S. Government identification badges and cards to USPTO employees and contract employees requiring access to USPTO buildings and offices. The records will also be used to maintain a record of all holders of identification badges and cards, for renewal and recovery of expired badges and/or cards, and to identify those that are lost or stolen.

Disclosure to consumer reporting agencies:

Not applicable.

Policies and practices for storing, retrieving, accessing, retaining, and disposing of records in the system:

Storage:

Records are maintained in electronic media.

Retrievability:

Records are retrieved by individual's name and/or card number.

Safeguards:

Access to this system of records is limited to security and guard force personnel. Records are stored in guarded security areas and in controlled-access systems.

Access to sensitive records is available only to authorized employees responsible for the management of the system and/or employees of program offices who have a need for such information. Electronic records are password-protected. During non-work hours, records are stored in locked safes and/or cabinets in locked rooms.

Retention and disposal:

The records on government employees and contractor employees are retained for the duration of their employment at the USPTO. Other individuals' records are kept for the duration of their affiliation with the USPTO and then treated as employee records. The records on separated employees are destroyed or sent to the Federal Records Center in accordance with General Records Schedule 18.

System manager(s) and address:

Director, Security Office, United States Patent and Trademark Office, P.O. Box 1450, Alexandria, VA 22313-1450.

Notification procedure:

Information may be obtained from the Security Office, United States Patent and Trademark Office, P.O. Box 1450, Alexandria, VA 22313-1450. Requesters should provide the appropriate information in accordance with the inquiry provisions appearing at 37 CFR Part 102 Subpart B.

Record access procedures:

USPTO employees wishing to inquire whether this system of records contains information about them should contact the system manager indicated. Individuals must furnish their full names for their records to be located and identified. See “Notification procedure” above.

Contesting record procedures:

USPTO employees wishing to request amendment of their records should contact the system manager indicated. Individuals must furnish their full names for their records to be located and identified. See “Notification procedure” above.

Record source categories:

The information contained in these records is provided by or verified by the subject individual of the record, supervisors, other personnel documents, and non-Federal sources such as private employers.

Exemptions claimed for the system:

None.

Dated: December 7, 2004.
Susan K. Brown,
Records Officer, USPTO, Office of the Chief Information Officer, Office of Data Architecture and Services, Data Administration Division.

[FR Doc. 04-27322 Filed 12-13-04; 8:45 am]

BILLING CODE 3510-16-P